DEPARTMENT OF DEFENSE

Defense Acquisition Regulations System

48 CFR Part 222

Defense Federal Acquisition Regulation Supplement; Technical Amendments

AGENCY: Defense Acquisition Regulations System, Department of Defense (DoD).

ACTION: Final rule.

SUMMARY: DoD is making a technical amendment to the Defense Federal Acquisition Regulation Supplement (DFARS) to provide needed editorial changes.

DATES: Effective Date: June 17, 2013.

FOR FURTHER INFORMATION CONTACT: Ms. Kortnee Stewart, Defense Acquisition Regulations System, OUSD(AT&L)DPAP(DARS), Room 3B855, 3060 Defense Pentagon, Washington, DC 20301-3060. Telephone 571-372-6100; facsimile 571-372-6094.

SUPPLEMENTARY INFORMATION: This final rule amends the DFARS to insert a PGI pointer at Subpart 222.7404(c).

List of Subjects in 48 CFR Part 222

Government procurement.

Kortnee Stewart
Editor, Defense Acquisition Regulations System.

Therefore, 48 CFR part 222 is amended as follows:

PART 222—APPLICATION OF LABOR LAWS TO GOVERNMENT ACQUISITIONS

1. The authority citation for 48 CFR part 222 continue to read as follows:

Authority: 41 U.S.C. 1303 and 48 CFR chapter 1.

2. Section 222.7404(c) is amended by inserting the words “and PGI 222.7404(c)” after the word “procedures”.

[FR Doc. 2013-14295 Filed 6-14-13; 8:45 am]

BILLING CODE 5001-06-P